DEPARTMENT OF DEFENSE

Office of the Secretary

Privacy Act of 1974; System of Records

AGENCY: Office of the Secretary, DoD.

ACTION: Notice to add a system of records; DHA 12-Third Party Outpatient Collection System.

SUMMARY: The Office of the Secretary of Defense proposes to add a system of records to its inventory of record systems subject to the Privacy Act of 1974 (5 U.S.C. 552a), as amended.

DATES: The changes will be effective on April 28, 2005, unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on March 18, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 22, 2005.
L.M. Bynum,
OSD Federal Register Liaison Officer, Department of Defense.

DHA 12

System Name:

Third Party Outpatient Collection System.

System location:

Resource Information Technology Program Office, 5205 Leesburg Pike, Suite 1100, Falls Church, VA 22041-3891.

Categories of individuals covered by the system:

Members of the uniformed services, dependents and retired military members of the Uniformed Services receiving outpatient health services approved by the Department of Defense. All commercial insurance carriers and parties against whom recovery has been sought by the Department of Defense Military Health System. All parties involved in support of the collection activities for outpatient health care approved by the Department of Defense.

Categories of records in the system:

Insurance Policy Information Data: This includes policy number, group number, group name, policy effective date, policy category, insurance company, insurance type, policy holder, whether policy holder is insured through their employer, drug coverage data regarding authority to bill for pharmaceuticals.

Employer Information data:

This includes employer name, address, and a contact name for the policyholder.

Billing Information Data:

This includes bill type (clinic, pharmacy, laboratory/radiology, ambulance), date-of-service, patient identification number, patient name, policy number, provider code/description, office visit code description, Medical Expense and Performance Reporting System code/description, diagnosis code/description, billing amount, user who created the bill, date bill was created, and status of bill and source of billing data.

Accounting Information Data:

This includes control number, transaction code, debit amount, credit amount, check number, Batch posting number, balance, patient identification, patient name, encounter date, comments, entry date and follow-up date.

Insurance Company Data:

This contains tables for insurance company, policy, provider, fees, codes, rates, and procedure maintenance.

Authority for maintenance of the system:

The Balanced Budget Refinement Act of 1999, Pub. Law 106-113, Section 103; 10 U.S.C. 1095; 42 CFR 413.20; DoD 6010.15-M, Chapter 3; and E.O. 9397 (SSN).

Purpose(s):

The purpose of the system is to establish a standard patient accounting system for health care billing practices. It shall assist Military Treatment Facilities in the collecting, tracking, and reporting of data required for the DoD Third Party Collection Program outpatient billing process by the adoption of standard commercial medical coding and billing practices to military hospitals.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the National Data Clearinghouse, an electronic healthcare clearinghouse, for purposes of converting the data to an industry-wide format prior to forwarding the billing information to the insurance companies for payment.

The ‘DoD Blanket Routine Uses’ set forth at the beginning of OSD's compilation of systems of records notices apply to this system.

Policies and practices for storing, retrieving, accessing, retaining, and disposing of records in the system:

Storage:

Records are maintained on paper in file folders, on a microcomputer system, on diskette, on compact disk.

Retrievability:

Records are retrieved By the sponsor's or participating individual's name and/or Social Security Number, family member prefix (a two-digit code identifying the person's relationship to the Military Sponsor).

Safeguards:

Records are maintained in controlled areas accessible only to authorized personnel. Daily and monthly tape backups are performed. The archived records are stored in a secure location at each facility. Physical security differs from site to site, but both the manual and the automated records are maintained in controlled areas accessible only by authorized personnel. Access to computerized data is restricted by passwords.

Retention and disposal:

Records containing patient encounter, billing, and accounting data are maintained in the system for six years. Current and past year data, needed in the system for billing and collection purposes, are in an active file. The records are destroyed after a minimum of six years as required by statute. The disposal of records is performed by burning tape or shredding paper.

System manager(s) and address:

Program Manager, Resources Information Technology Program Office, 5205 Leesburg Pike, Suite 1100, Falls Church, VA 22041-3891.

Notification procedure:

Individuals seeking to determine whether this system contains information about themselves should address written inquires to the TRICARE Management Activity, Department of Defense, ATTN: TMA Privacy Officer, 5111 Leesburg Pike, Suite 810, Falls Church, VA. 22041-3206.

Request should contain participant's and/or sponsor's full name, their Social Security Number, and current address and telephone number and the names of the Military Treatment Facility or Facilities in which they have received medical treatment.

Record access procedures:

Individuals seeking to determine whether information about themselves is contained in this system of records should address written inquiries to the TRICARE Management Activity, Department of Defense, ATTN: TMA Privacy Officer, 5111 Leesburg Pike, Suite 810, Falls Church, VA 22041-3206.

Requests should contain participant's and/or sponsor's full name, their Social Security Number, and current address and telephone number and the names of the Military Treatment Facility or Facilities in which they have received medical treatment.

Contesting record procedures:

The OSD rules for accessing records, for contesting contents and appealing initial agency determinations are published in OSD Administrative Instruction 81; 32 CFR part 311; or may be obtained from the system manager.

Record source categories:

Information is obtained from an automated medical records system, the Composite Health Care System (specifically, the Ambulatory Data Module), which is automatically sent to the third party outpatient collection program.

Exemptions claimed for the system:

None.

[FR Doc. 05-6124 Filed 3-28-05; 8:45 am]

BILLING CODE 5001-06-P